DEPARTMENT OF HOUSING AND URBAN DEVELOPMENT

[Docket No. FR-7104-N-06]

60-Day Notice of Proposed Information Collection: Indian Housing Block Grants (IHBG) Program Reporting; OMB Control No.: 2577-0218

AGENCY: Office of the Assistant Secretary for Public and Indian Housing (PIH), HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments are due: June 27, 2025.

ADDRESSES: Interested persons are invited to submit comments regarding this proposal. Written comments and recommendations for the proposed information collection can be posted within 60 days of publication of this notice on www.regulations.gov by searching the Docket Number of this notice and following the prompts. Interested persons are also invited to submit comments and recommendations regarding via post. Comments and recommendations should be postmarked within 60 days of the publication of this notice, refer to the proposal by name and/or OMB Approval Number (located at the top of this notice), and be sent to: Leea Thornton, Department of Housing and Urban Development, 451 7th Street SW, Room 3178, Washington, DC 20410.

FOR FURTHER INFORMATION CONTACT: Leea Thornton, Department of Housing and Urban Development, 451 7th Street SW, Room 3178, Washington, DC 20410; email address leea.j.thornton@hud.gov, telephone number 202-402-6455. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Indian Housing Block Grants (IHBG) Formula and Competitive Programs.

OMB Approval Number: 2577-0218.

Type of Request: Revision or extension of currently approved collection.

Form Number: HUD-4117, HUD-4117 A-D, HUD-4119, HUD-4119 A-D, HUD-52736-A, HUD-52736-B, HUD-52737 IHP-APR, HUD-52737 GEMS IHP/APR, HUD-53248 IHBG-COMP APR.

Description of the need for the information and proposed use: HUD's Office of Native American Programs (ONAP) will use the pre-award and post-award information collected to assess program compliance, monitor grantee performance throughout the grant term, and to report annually to Congress. HUD's Office of Native American Programs (ONAP) is responsible for managing the IHBG Formula and IHBG Competitive programs, as described below.

IHBG Formula Program: The Native American Housing Assistance and Self-Determination Reauthorization Act of 1996 (25 U.S.C. 4101 et seq.) (NAHASDA) authorizes the IHBG Formula program what supports the development, management, and operation of affordable homeownership and rental housing; infrastructure development; and other forms of housing assistance intended for low-income persons. Federally recognized Native American tribes, Alaska Native villages, tribally designated housing entities, and a limited number of State-recognized tribes that were funded under the Indian Housing Program authorized by the U.S. Housing Act of 1937 are eligible to receive IHBG funds. Under the IHBG Formula Program, eligible recipients receive an equitable share of funds as appropriated by Congress.

IHBG Competitive Program: Since 2018, Congress has appropriated additional funding under the IHBG Formula program for the IHBG Competitive Grant (IHBG-COMP), also under assistance listing 14.867. IHBG-COMP prioritizes projects that increase the availability of affordable housing in Tribal communities with consideration to extent of need and administrative capacity. The regulations and requirements governing the IHBG formula program apply to the IHBG Competitive program. The IHBG-COMP Notices of Funding Opportunities (NOFO) are published on Grants.gov, where applicants submit applications.

Annual Reporting Burden: The annual reporting burden hours are based on the estimates provided below.

Information collection | Number of respondents | Frequency of response | Responses per annum | Burden hour per response | Annual burden hours | Hourly cost per response | Annual cost
SF-424 | 0 | 0 | 0 | 0 | 0 | 0 | 0
SF-424D | 0 | 0 | 0 | 0 | 0 | 0 | 0
SF-425 | 0 | 0 | 0 | 0 | 0 | 0 | 0
HUD-2880 | 0 | 0 | 0 | 0 | 0 | 0 | 0
HUD-4117 | 792 | 1 | 792 | 2 | 1,584 | $43.10 | $68,270.40
HUD 4117 Appendix A | 15 | 1 | 15 | 2 | 30 | 43.10 | 1,293.00
HUD 4117 Appendix B | 15 | 1 | 15 | 2 | 30 | 43.10 | 1,293.00
HUD 4117 Appendix C | 15 | 1 | 15 | 2 | 30 | 43.10 | 1,293.00
HUD 4117 Appendix D | 15 | 1 | 15 | 2 | 30 | 43.10 | 1,293.00
HUD-4119 | 15 | 1 | 15 | 150 | 2,250 | 43.10 | 96,975.00
HUD-4119 Appendix A | 15 | 1 | 15 | 2 | 30 | 43.10 | 1,293.00
HUD-4119 Appendix B | 15 | 1 | 15 | 10 | 150 | 43.10 | 6,465.00
HUD-4119 Appendix C | 15 | 1 | 15 | 15 | 225 | 43.10 | 9,697.50
HUD-4119 Appendix D | 15 | 1 | 15 | 2 | 30 | 43.10 | 1,293.00
HUD-4123 | 120 | 1 | 120 | 2 | 240 | 43.10 | 10,344.00
HUD-4125 | 120 | 1 | 120 | 2 | 240 | 43.10 | 10,344.00
HUD-52736-A | 15 | 1 | 15 | 0.25 | 3.75 | 43.10 | 161.63
HUD-52736-B | 15 | 1 | 15 | 0.25 | 3.75 | 43.10 | 161.63
HUD-52737 IHP-APR | 773 | 2 | 1584 | 62 | 95,852 | 43.10 | 4,131,221.20
HUD-52737 GEMS IHP/APR | 19 | 2 | 38 | 62 | 2,356 | 43.10 | 101,543.60
HUD-53248 IHBG-COMP APR | 30 | 1 | 30 | 32 | 960 | 43.10 | 41,376.00
Totals | 2,019 | 19 | 2,849 | 350 | 104,045 | 43.10 | 4,484,317.95

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

C. Authority

Section 2 of the Paperwork Reduction Act of 1995, 44 U.S.C. 3507.

Sylvia Whitlock,
Acting Chief, Office of Policy, Program and Legislative Initiatives.

[FR Doc. 2025-07250 Filed 4-25-25; 8:45 am]

BILLING CODE 4210-67-P